FEDERAL COMMUNICATIONS COMMISSION

[WC Docket No. 14-28; DA 14-1322]

Panelist Information for Open Internet Roundtables

AGENCY: Federal Communications Commission.

ACTION: Notice.

SUMMARY: In this document, the Commission released a notice announcing panelist names and other information for a series of roundtables. The intended effect of this document is to make the public aware of the event and the agenda for the roundtables.

DATES: Friday, September 19, 2014, 10:00 a.m.-4:30 p.m.

ADDRESSES: Federal Communications Commission, Commission Meeting Room (TW-C305), 445 12th Street SW., Washington, DC 20554.

FOR FURTHER INFORMATION CONTACT: Stephen Ruckman, Enforcement Bureau, at (202) 418-8192 or by email at Stephen.Ruckman@fcc.gov.

SUPPLEMENTARY INFORMATION: This is a summary of the Commission's document in WC Docket No. 14-28, DA 14-1322 released September 12, 2014. The complete text in this document is available for public inspection and copying during normal business hours in the FCC Reference Information Center, Portals II, 445 12th Street SW., Room CY-A257, Washington, DC 20554. The document may also be purchased from the Commission's duplicating contractor, Best Copy and Printing, Inc., 445 12th Street SW., Room CY-B402, Washington, DC 20554, telephone (800) 378-3160 or (202) 863-2893, facsimile (202) 863-2898, or via the Internet at http://www.bcpiweb.com. It is available on the Commission's Web site at http://www.fcc.gov.

The roundtables will be free and open to the public, and the FCC also will stream them live at http://www.fcc.gov/live. The location of the roundtables will be the Commission Meeting Room (TW-C305), 445 12th Street SW., Washington, DC 20554. The FCC will make available an overflow room for those in-person attendees who cannot be accommodated in the Commission Meeting Room. We advise persons planning to attend the roundtables in person to leave sufficient time to enter through building security.

The FCC encourages members of the public to submit suggested questions in advance and during the roundtables by email to roundtables@fcc.gov or on Twitter using the hashtag #FCCRoundtables. Please note that by submitting a question, you will be making a filing in an official FCC proceeding. All information submitted, including names, addresses, and other personal information contained in the message, may be publicly available online.

Reasonable accommodations for people with disabilities are available upon request. The request should include a detailed description of the accommodation needed and contact information. We ask that requests for accommodations be made as soon as possible in order to allow the agency to satisfy such requests whenever possible. Send an email to fcc504@fcc.gov or call the Consumer and Governmental Affairs Bureau at 202-418-0530 (voice), 202-418-0432 (TTY).

Proposed Agenda

The Enforcement Bureau and the Office of Strategic Planning and Policy Analysis of the Federal Communications Commission (FCC) provide panelist names and other information about two events in the Open Internet roundtable series: “Effective Enforcement of Open Internet Requirements” and “Technological Aspects of an Open Internet,” which will both take place on September 19, 2014. These workshops were previously announced in a Public Notice. At that time, it was unclear whether the workshop would be a “meeting” of the Commission. As such, that Public Notice was not published in the Federal Register. This Notice shall serve as notice that a quorum of Commissioners may be present at one or more roundtables, in compliance with Part 0, Subpart F of the Commission's rules. This Notice does not, however, change the “permit-but-disclose” status of the Open Internet proceeding under the Commission's ex parte rules.

Effective Enforcement of Open Internet Requirements

10:00-10:15 a.m. Welcome and Opening Remarks

10:15-12:30 p.m. Effective Enforcement of Open Internet Requirements

This roundtable will consider ways to enforce effectively the proposed new Open Internet rules, exploring the utility of various current and proposed enforcement tools in the Open Internet context and discussing how to design fair and accessible FCC dispute resolution processes for open Internet concerns.

Panelists

Rick Chessen, Senior Vice President, Law & Regulatory Policy, NCTA

Steve Coran, FCC Counsel, WISPA

Susan Crawford, Visiting Professor, Harvard Law School & Co-Director, Berkman Center for Internet & Society

Christine Hines, Consumer and Civil Justice Counsel, Public Citizen

Chris Riley, Senior Policy Engineer, Mozilla

Michal Rosenn, Deputy General Counsel, Kickstarter

Moderators

Travis LeBlanc, Chief, Enforcement Bureau, FCC

Paula Blizzard, Deputy Bureau Chief, Enforcement Bureau, FCC

12:30-1:30 p.m. Lunch Break

Technological Aspects of an Open Internet

1:30-1:45 p.m. Welcome and Opening Remarks

1:45-4:30 p.m. Technological Aspects of an Open Internet

This roundtable will consider the technical aspects of ensuring an Open Internet, including questions of scope, transparency, blocking, mobile networks, and reasonable network management.

Panelists

Don Bowman, Chief Technology Officer, Sandvine

Al Jette, Head of North American Industry Environment, Nokia Networks

Jim Kurose, Distinguished Professor of Computer Science, University of Massachusetts Amherst

Klara Nahrstedt, Ralph and Catherine Fisher Professor, Department of Computer Science, University of Illinois at Urbana-Champaign

Andrew Pile, Chief Technology Officer, Vimeo

Hans-Juergen Schmidtke, Vice President, Product Management, Juniper Networks

Stephen Wolff, Interim Vice President & Chief Technology Officer, Internet2

Moderators

Scott Jordan, Chief Technology Officer, FCC

Henning Schulzrinne, Technology Advisor and former Chief Technology Officer, FCC

Federal Communications Commission.
Travis LeBlanc,
Chief, Enforcement Bureau.

[FR Doc. 2014-22433 Filed 9-18-14; 8:45 am]

BILLING CODE 6712-01-P